DEPARTMENT OF COMMERCE

International Trade Administration

[A-357-405]

Barbed Wire and Barbless Fencing Wire From Argentina: Final Results of Sunset Review and Revocation of Order

AGENCY: Import Administration, International Trade Administration, Department of Commerce.

SUMMARY: On August 3, 2009, the Department of Commerce (Department) initiated the sunset review of the antidumping duty order on barbed wire and barbless fencing wire from Argentina. Because the domestic interested parties did not participate in this sunset review, the Department is revoking this antidumping duty order.

FOR FURTHER INFORMATION CONTACT: Steve Bezirganian, AD/CVD Operations, Office 7, Import Administration, International Trade Administration, U.S. Department of Commerce, 14th Street & Constitution Avenue, NW., Washington, DC 20230; telephone: (202) 482-1131.

SUPPLEMENTARY INFORMATION:

Background

On November 13, 1985, the Department issued an antidumping duty order on barbed wire and barbless fencing wire from Argentina. See Antidumping Duty Order: Barbed Wire and Barbless Fencing Wire From Argentina, 50 FR 46808 (Nov. 13, 1985). On September 20, 2004, the Department published its most recent continuation of the order. See Continuation of Antidumping Duty Order: Barbed Wire and Barbless Fencing Wire From Argentina, 69 FR 56190 (Sep. 20, 2004). On August 3, 2009, the Department initiated a sunset review of this order. See Initiation of Five-Year (“Sunset”) Review, 74 FR 38401 (Aug. 3, 2009).

We did not receive a notice of intent to participate from domestic interested parties in this sunset review by the deadline date. As a result, in accordance with 19 CFR 351.218(d)(1)(iii)(A), the Department determined that no domestic interested party intends to participate in the sunset review, and on August 21, 2009, we notified the International Trade Commission, in writing, that we intended to issue a final determination revoking this antidumping duty order. See 19 CFR 351.218(d)(1)(iii)(B)(2).

Scope of the Order

The merchandise covered by this order is barbed wire and barbless fencing wire from Argentina, which is currently classifiable under Harmonized Tariff Schedule of the United States (HTSUS) item number 7313.00.00. The HTSUS number is provided for convenience and customs purposes. The written product description remains dispositive.

Determination To Revoke

Pursuant to section 751(c)(3)(A) of the Tariff Act of 1930, as amended (the Act), and 19 CFR 351.218(d)(1)(iii)(B)(3), if no domestic interested party files a notice of intent to participate, the Department shall, within 90 days after the initiation of the review, issue a final determination revoking the order. Because the domestic interested parties did not file a notice of intent to participate in this sunset review, the Department finds that no domestic interested party is participating in this sunset review. Therefore, consistent with 19 CFR 351.222(i)(1)(i) and section 751(c)(3)(A) of the Act, we are revoking this antidumping duty order. The effective date of revocation is September 20, 2009, the fifth anniversary of the date of publication in the Federal Register of the most recent notice of continuation of this antidumping duty order.

Effective Date of Revocation

Pursuant to section 751(c)(3)(A) of the Act and 19 CFR 351.222(i)(2)(i), the Department will issue instructions to U.S. Customs and Border Protection, 15 days after publication of the notice, to terminate the suspension of liquidation of the merchandise subject to this order entered, or withdrawn from warehouse, on or after September 20, 2009. Entries of subject merchandise prior to the effective date of revocation will continue to be subject to suspension of liquidation and antidumping duty deposit requirements. The Department will complete any pending administrative reviews of this order and will conduct administrative reviews of subject merchandise entered prior to the effective date of revocation in response to appropriately filed requests for review.

This five-year (sunset) review and notice are in accordance with sections 751(c) and 777(i)(1) of the Act.

Dated: September 24, 2009.
John M. Andersen,
Acting Deputy Assistant Secretary for Antidumping and Countervailing Duty Operations.

[FR Doc. E9-23695 Filed 9-30-09; 8:45 am]

BILLING CODE 3510-DS-P